DEPARTMENT OF AGRICULTURE

Commodity Credit Corporation

Farm Service Agency

Notice of Funds Availability (NOFA); Market Facilitation Program (MFP) Payments to Producers

AGENCY: Commodity Credit Corporation and Farm Service Agency, USDA.

ACTION: Notice.

SUMMARY: MFP provides payments to producers with commodities that have been significantly impacted by actions of foreign governments resulting in the loss of traditional exports. This NOFA announces the new payment rates for selected commodities. On behalf of the Commodity Credit Corporation (CCC), the Farm Service Agency (FSA) administers MFP. MFP participants will receive an MFP payment, calculated based on the eligible production multiplied by the participant's share multiplied by the MFP payment rate.

DATES: Application period: December 21, 2018 through January 15, 2019.

FOR FURTHER INFORMATION CONTACT: Bradley Karmen, telephone: (202) 720-3175.

SUPPLEMENTARY INFORMATION:

Background

The MFP regulation in 7 CFR part 1409 specifies the eligibility requirements, payment calculations, and application procedures for MFP. CCC published NOFAs on August 30, 2018 (83 FR 44257-44258), and on September 25, 2018 (83 FR 48410-48411), that announced funds available for MFP commodities and specified the initial payment rates. MFP provides assistance to producers with commodities that have been significantly impacted by actions of foreign governments resulting in the loss of traditional exports.

The initial payment rates announced in previous NOFAs applied to the first 50 percent of the producer's total production of the selected commodity. The second payment rates, as announced in this NOFA, apply to the remaining 50 percent of the producer's production for the selected commodity.

MFP payment at the second payment rate will be made after a producer harvests 100 percent of the crop and certifies the amount of production.

Payment Rates

The MFP payment rates that have been determined by CCC are as shown in the following table.

Commodity | Unit | Initial rate * ($/unit) | Second rate ** ($/unit)
Soybeans | bushels | $1.65 | $1.65
Sorghum | bushels | 0.86 | 0.86
Wheat | bushels | 0.14 | 0.14
Cotton (Upland and ELS) | pounds | 0.06 | 0.06
Corn | bushels | 0.01 | 0.01
Hogs | number of head of hogs | 8.00 | 8.00
Milk | hundredweight (cwt) | 0.12 | 0.12
Shelled Almonds | pounds | 0.03 | 0.03
Fresh Sweet Cherries | pounds | 0.16 | 0.16
* Payment rate for first 50 percent of producer's total production.
** Payment rate for remaining 50 percent of producer's total production.

The actual production used to calculate an MFP payment under this NOFA is 2018 production in which the applicant had an ownership share. Specifically, required production information is as follows:

• Harvested production for the 2018 crop year;

• An ownership share for a crop will be as reported to FSA on the acreage report, form FSA-578, “Report of Acreage.”

For information about production evidence, payment limitation, and eligible crops, see the previously published MFP NOFAs (83 FR 44257-44258 and 83 FR 48410-48411).

Paperwork Reduction Act Requirements

In the accordance with the Paperwork Reduction Act of 1995, the information collection required by MFP regulation (7 CFR 1409) has been approved by OMB under OMB control number of 0560-0292. FSA does not have any changes to the burden hours and the information collection activities for this NOFA.

Environmental Review

The environmental impacts for MFP have been considered in a manner consistent with the provisions of the National Environmental Policy Act (NEPA, 42 U.S.C. 4321-4347), the regulations of the Council on Environmental Quality (40 CFR parts 1500-1508), and the FSA regulation for compliance with NEPA (7 CFR part 799).

As stated in the MFP final rule, the implementation of MFP and the participation in MFP do not constitute major Federal actions that would significantly affect the quality of the human environment, individually or cumulatively. The final rule served as documentation of the programmatic environmental compliance decision for this federal program; therefore, CCC will not prepare additional environmental compliance documentation for this NOFA.

Federal Assistance Programs

The title and number of the Federal assistance programs, as found in the Catalog of Federal Domestic Assistance, to which this NOFA applies is: 10.123 Market Facilitation Program.

Richard Fordyce,
Administrator, Farm Service Agency.
Robert Stephenson,
Executive Vice President, Commodity Credit Corporation.

[FR Doc. 2018-27614 Filed 12-20-18; 8:45 am]

BILLING CODE 3410-05-P